DEPARTMENT OF AGRICULTURE

Animal and Plant Health Inspection Service

[Docket No. APHIS-2023-0050]

Addition of Black Stem Rust-Resistant Barberry Plant Varieties to Regulated Articles List

AGENCY: Animal and Plant Health Inspection Service, USDA.

ACTION: Notice.

SUMMARY: We are adding 33 varieties to the list of black stem rust-resistant barberry species and varieties. This change will allow for the interstate movement of these newly developed varieties without unnecessary restrictions.

DATES: Varieties were added to the list of black stem rust-resistant barberry species on December 20, 2024.

FOR FURTHER INFORMATION CONTACT: Mr. Allen Proxmire, National Policy Manager, Black Stem Rust, Specialty Crops and Cotton Pests, Emergency and Domestic Programs, PPQ, APHIS, USDA, 4700 River Road Unit 133, Riverdale, MD 20737-1231; phone: (480) 392-8754; email: allen.proxmire@usda.gov.

SUPPLEMENTARY INFORMATION: Black stem rust is a destructive plant disease caused by a fungus (Puccinia graminis) that reduces the quality and yield of infected wheat, oat, barley, and rye crops. In addition to infecting small grains, the fungus lives on a variety of alternate host plants that are species of the genera Berberis, Mahoberberis, and Mahonia, known as barberry plants.

The regulations in “Subpart D—Black Stem Rust” (7 CFR 301.38 through 301.38-8, referred to below as the regulations), quarantine the conterminous 48 States and the District of Columbia for black stem rust, and govern the interstate movement of plants of the genera Berberis, Mahoberberis, and Mahonia, known as barberry plants.

Species and varieties of these plants are categorized as either rust-resistant or rust-susceptible. Rust-susceptible plants pose a risk of spreading black stem rust or of contributing to the development of new races of the rust, and therefore are prohibited from moving interstate into or through any protected area listed in accordance with § 301.38-3. Rust-resistant plants do not pose such risks, and therefore may be moved into or through protected areas subject to the requirements in the regulations.

In accordance with § 301.38-2(a), the Animal and Plant Health Inspection Service (APHIS) maintains a list of Berberis species and varieties it has found to be rust-resistant at www.aphis.usda.gov/aphis/ourfocus/planthealth/plant-pest-and-disease-programs/pests-and-diseases/barberry/ct_barberry.

Paragraph (c)(1) of § 301.38-2 provides that if the Administrator determines that an article not already listed is resistant to black stem rust, APHIS will publish a notice in the Federal Register proposing to add the article to the list of rust-resistant articles for black stem rust and request public comment. Following the close of the comment period, APHIS will review all comments received and will make a final determination regarding the designation that will be published in a second notice in the Federal Register.

In accordance with that process, on March 20, 2024, we published in the Federal Register (89 FR 19796-19797, Docket No. APHIS-2023-0050), a notice ¹ proposing to add 32 varieties of Berberis thunbergii (Japanese barberry) to the list of black stem rust-resistant barberry species and varieties. The proposed additions were found, through testing by the Agricultural Research Service (ARS) of the United States Department of Agriculture, to be resistant to the fungus (Puccinia graminis) that causes black stem rust.

¹ To view the notice, go to https://www.regulations.gov/document/APHIS-2023-0050-0001.

We solicited comments concerning our proposal for 60 days ending May 20, 2024. We received two comments, both from members of the industry involved in breeding the varieties addressed in this action.

One commenter asked us to remove from the cultivar names all language after the nomenclatures that begin with `NCBT' and `SMNBT'.

We will remove this nomenclature from our list of Berberis species and varieties we have found to be rust-resistant.

The other commenter stated that Berberis thunbergii x B. calliantha `NCBX5', which was confirmed resistant in 2017, was missing from the listing in the notice.

The commenter is correct that we mistakenly excluded Berberis thunbergii x B. calliantha `NCBX5' from the notice. This article was found to be resistant to the fungus (Puccinia graminis) that causes black stem rust through testing by ARS in 2017 and should have been included in the notice. We will include Berberis thunbergii x B. calliantha `NCBX5' in our list of Berberis species and varieties we have found to be rust-resistant. This article will bring the number of additions to 33, rather than 32.

The commenter also stated that, in our current list of rust-resistant Berberis species and varieties on the APHIS web page, the parentage listed for `NCBX3' was incorrect. The variety is listed as B. thunbergiix calliantha “NCBX3', but should be listed as Berberis thunbergii x media `NCBX3'.

The commenter is correct. We will fix this error by correctly listing Berberis thunbergii x media `NCBX3' when we update our list of rust-resistant Berberis species and varieties.

Therefore, in accordance with the regulations in § 301.38-2(c)(1), we are announcing our decision to designate the following articles as rust-resistant:

• Berberis thunbergii `Citral'

• Berberis thunbergii `Coral Spice'

• Berberis thunbergii `Crimson Cutie'

• Berberis thunbergii `James Blonde'

• Berberis thunbergii `Lemon Cutie®'

• Berberis thunbergii `Lemon Glow®'

• Berberis thunbergii `Mr. Green Genes TM'

• Berberis thunbergii `Purple Plume'

• Berberis thunbergii `NCBT3'

• Berberis thunbergii `NCBT4'

• Berberis thunbergii `NCBT8'

• Berberis thunbergii `NCBT9'

• Berberis thunbergii `NCBT10'

• Berberis thunbergii `NCBT11'

• Berberis thunbergii `NCBT12'

• Berberis thunbergii `NCBT13'

• Berberis thunbergii `NCBT14'

• Berberis thunbergii `Schu20022'

• Berberis thunbergii `SMNBTAA'

• Berberis thunbergii `SMNBTAB'

• Berberis thunbergii `SMNBTAC'

• Berberis thunbergii `SMNBTAJ'

• Berberis thunbergii `SMNBTAK'

• Berberis thunbergii `SMNBTSSR'

• Berberis thunbergii x media `NCBX9'

• Berberis thunbergii x B. sieboldii `NCBX10'

• Berberis thunbergii x B. sieboldii `NCBX11'

• Berberis thunbergii x B. sieboldii `NCBX12'

• Berberis thunbergii x B. sieboldii `NCBX13'

• Berberis thunbergii x B. sieboldii `NCBX14'

• Berberis thunbergii x B. sieboldii `NCBX15'

• Berberis thunbergii x B. sieboldii `NCBX16'

• Berberis thunbergii x B. calliantha `NCBX5'

These articles will be added to the list of rust-resistant regulated articles for black stem rust at https://www.aphis.usda.gov/plant-pests-dieseases/black-stem-rust-barberry.

Authority: 7 U.S.C. 7701-7772 and 7781-7786; 7 CFR 2.22, 2.80, and 371.3. Section 301.75-15 issued under section 204, title II, Public Law 106-113, 113 Stat. 1501A-293; sections 301.75-15 and 301.75-16 issued under section 203, title II, Public Law 106-224, 114 Stat. 400 (7 U.S.C. 1421 note).

Done in Washington, DC, this 16th day of December 2024.
Michael Watson,
Administrator, Animal and Plant Health Inspection Service.

[FR Doc. 2024-30339 Filed 12-19-24; 8:45 am]

BILLING CODE 3410-34-P